DEPARTMENT OF DEFENSE

Defense Threat Reduction Agency; Privacy Act of 1974; System of Records

AGENCY: Defense Threat Reduction Agency, DoD.

ACTION: Notice to Alter a System of Records; HDTRA 007 Security Operations.

SUMMARY: The Defense Threat Reduction Agency proposes to alter a system of records notice in its existing inventory of records systems subject to the Privacy Act of 1974, (5 U.S.C. 552a), as amended.

DATES: This proposed action will be effective without further notice on September 23, 2005 unless comments are received which result in a contrary determination.

ADDRESSES: Send comments to the General Counsel, Defense Threat Reduction Agency, 8725 John J. Kingman Road, Fort Belvoir, VA 22060-6201

FOR FURTHER INFORMATION CONTACT: Ms. Brenda Carter at (703) 325-1205.

SUPPLEMENTARY INFORMATION: The Defense Threat Reduction Agency systems of records notices subject to the Privacy Act of 1974, (5 U.S.C. 552a), as amended, have been published in the Federal Register and are available from the address above.

The proposed system reports, as required by 5 U.S.C. 552a(r), of the Privacy Act of 1974, as amended, were submitted on August 16, 2005 to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: August 17, 2005.
Jeannette Owings-Ballard,
OSD Federal Register Liaison Officer, Department of Defense.

HDTRA 007

System name:

Security Operations (December 14, 1998, 63 FR 68736).

Changes:

* * * * *

System location:

Delete primary location and replace with “Security and Counterintelligence Directorate, Defense Threat Reduction Agency, 8725 John J. Kingman Road, Fort Belvoir, VA 22060-6201”.

Delete secondary location and replace with “Security Office, Defense Threat Reduction Agency, 8725 John J. Kingman Road, Fort Belvoir, VA 22060-6201”.

* * * * *

Categories of records in the system:

Delete entry and replace with “Name; Social Security Number; date and place of birth; height; weight; hair and eye color; citizenship; grade/rank; service; organization; security clearance; date of clearance; date of investigation; type of investigation; Agency that conducted investigation; basis special accesses; courier authorization; continuous access roster expiration date; badge number; vehicle ID and decal number; special intelligence access; expiration date; agency, billet number; list of badges/passes issued; safes and open storage locations/custodians; conference title/duties/location; Department of Defense Form 1879; Standard Form SF 86; Reports of Investigation; special access/briefings; visit requests; conference rosters; clearance and special access rosters; picture identification; and correspondence concerning adjudication/passing of clearances/accesses.

Authority for maintenance of the system:

Delete entry and replace with “E.O. 10450, Security Requirements for Government Employment; E.O. 12065, National Security Information; The Internal Security Act of 1950 (Pub. L. 831), Section 21, as amended and codified at 50 U.S.C. 797; The Atomic Energy Act of 1954, Section 145; and E.O. 9397 (SSN).”

Purpose(s):

Delete “and other DoD Components” from the first line of the entry.

* * * * *

Storage:

Delete first sentence and replace with “Automated records are stored on magnetic tapes, discs, computer printouts, hard drives, and DTRA computer server.”

* * * * *

Safeguards:

Delete last sentence and replace with “Buildings are protected by security forces and an electronic security system.”

Retention and disposal:

Delete first sentence and replace with “Computer records on individuals are moved to historical area of database files upon termination of an individual's affiliation with DTRA; personnel security files are retained for two years at which point the SF 312 is mailed to National Archives Repository and all other information is destroyed.”

System manager(s) and address:

Delete address and replace with “Chief, Security and Counterintelligence Directorate, Defense Threat Reduction Agency, 8725 John J. Kingman Drive, Ft. Belvoir VA 22060-6201”

Notification procedure:

Delete address and replace with “Chief, Security and Counterintelligence Directorate, Defense Threat Reduction Agency, 8725 John J. Kingman Drive, Ft. Belvoir, VA. 22060-6201”.

Record access procedures:

Delete address and replace with “Chief, Security and Counterintelligence Directorate, Defense Threat Reduction Agency, 8725 John J. Kingman Drive, Ft. Belvoir VA 22060-6201”.

Contesting record procedures:

Delete address and replace with “Chief, Security and Counterintelligence Directorate, Defense Threat Reduction Agency, 8725 John J. Kingman Drive, Ft. Belvoir VA 22060-6201”.

* * * * *

HDTRA 007

System name:

Security Operations.

System location:

Primary location: Security and Counterintelligence Directorate, Defense Threat Reduction Agency, 8725 John J. Kingman Road, Fort Belvoir, VA 22060-6201.

Secondary locations:

Security Office, Defense Threat Reduction Agency, 6801 Telegraph Road, Alexandria, VA 22310-3398.

Technology Security Directorate, Defense Threat Reduction Agency, 400 Army Navy Drive, Arlington, VA 22202-2884.

Albuquerque Operations, Defense Threat Reduction Agency, 1680 Texas Street, SE, Kirtland Air Force Base, Albuquerque, NM 87117-5669.

Categories of individuals covered by the system:

All military and civilian personnel assigned to, or employed by Defense Threat Reduction Agency (DTRA).

Other U.S. Government personnel, U.S. Government contractors, foreign government representatives, and visitors from foreign countries.

Categories of records in the system:

Name; Social Security Number; date and place of birth; height; weight; hair and eye color; citizenship; grade/rank, service; organization, security clearance; date of clearance; date of investigation; type of investigation; Agency that conducted investigation; basis special accesses; courier authorization; continuous access roster expiration date; badge number; vehicle ID and decal number; special intelligence access; expiration date, agency, billet number; list of badges/passes issued; safes and open storage locations/custodians; conference title/duties/location; Department of Defense Form 1879; Standard Form SF 86; Reports of Investigation; special access/briefings; visit requests; conference rosters; clearance and special access rosters; picture identification; and correspondence concerning adjudication/passing of clearances/accesses.

Authority for maintenance of the system:

E.O. 10450, Security Requirements for Government Employment; E.O. 12065, National Security Information; The Internal Security Act of 1950 (Pub. L. 831), Section 21, as amended and codified at 50 U.S.C. 797; The Atomic Energy Act of 1954, Section 145; and E.O. 9397 (SSN).

Purpose(s):

For use by officials and employees of the Defense Threat Reduction Agency in the performance of their official duties related to determining the eligibility of individuals for access to classified information, access to buildings and facilities, or to conferences over which DTRA has security responsibility.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: Officials and employees of Government contractors and other Government agencies in the performance of their official duties related to the screening and selection of individuals for security clearances and/or special authorizations, access to facilities or attendance at conferences.

The ‘Blanket Routine Uses' published at the beginning of DTRA's compilation of systems of records notices apply to this system.

Policies and practices for storing, retrieving, accessing, retaining, and disposing of records in the system:

Storage:

Automated records are stored on magnetic tapes, discs, computer printouts, hard drives, and DTRA computer server. Manual records are stored in paper file folders, card files and paper rosters.

Retrievability:

Automated records are retrieved by individual's last name, Social Security Number, conference title, and by type of badge issued. Manual records are retrieved by individuals' last name, Social Security Number, organization or subject file.

Safeguards:

The computer facility and terminals are located in restricted areas accessible only to authorized personnel. Manual records and computer printouts are available only to authorized persons with an official need to know. Buildings are protected by security forces and an electronic security system.

Retention and disposal:

Computer records on individuals are moved to historical area of database files upon termination of an individual's affiliation with DTRA; personnel security files are retained for two years at which point the SF 312 is mailed to National Archives Repository and all other information is destroyed. Manual records or conference attendees, visitors, and visit certifications to other agencies are maintained for two years and destroyed.

System manager(s) and address:

Chief, Security and Counterintelligence Directorate, Defense Threat Reduction Agency, 8725 John J. Kingman Drive, Ft. Belvoir VA 22060-6201.

Notification procedure:

Individuals seeking to determine whether information about themselves is contained in this system of records should address written inquiries to the Chief, Security and Counterintelligence Directorate, Defense Threat Reduction Agency, 8725 John J. Kingman Drive, Ft. Belvoir VA 22060-6201.

Record access procedures:

Individuals seeking access to information about themselves contained in this system of records should address written inquiries to the Chief, Security and Counterintelligence Directorate, Defense Threat Reduction Agency, 8725 John J. Kingman Drive, Ft. Belvoir VA 22060-6201.

Written requests for information should contain the full name, home address, Social Security Number, date and place of birth. For personal visits, the individual must be able to provide identification showing full name, date and place of birth, and their Social Security Number.

Contesting record procedures:

The DTRA rules for accessing records and for contesting contents and appealing initial agency determinations are published in DTRA Instruction 5400.11B; 32 CFR part 318; or may be obtained from the Chief, Security and Counterintelligence Directorate, Defense Threat Reduction Agency, 8725 John J. Kingman Drive, Ft. Belvoir VA 22060-6201.

Record source categories:

Information is extracted from military and civilian personnel records, investigative files, and voluntarily submitted by the individual. Other Government agencies, law enforcement officials and contractors may provide the same data.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with the requirements of 5 U.S.C. 553(b)(1), (2), and (3), (c) and (e) and published in 32 CFR part 318. For additional information contact the General Counsel, Defense Threat Reduction Agency, 45045 Aviation Drive, Dulles, VA 20166-7517.

[FR Doc. 05-16665 Filed 8-23-05; 8:45 am]

BILLING CODE 5001-01-P